Executive Order 14323 of July 30, 2025

Addressing Threats to the United States by the Government of Brazil

By the authority vested in me as President by the Constitution and the laws of the United States of America, including the International Emergency Economic Powers Act (50 U.S.C. 1701 et seq.) (IEEPA), the National Emergencies Act (50 U.S.C. 1601 et seq.) (NEA), section 604 of the Trade Act of 1974, as amended (19 U.S.C. 2483), and section 301 of title 3, United States Code, I hereby order:

Section 1. National Emergency. As President of the United States, my highest duty is protecting the national security, foreign policy, and economy of this country. Recent policies, practices, and actions of the Government of Brazil threaten the national security, foreign policy, and economy of the United States. Members of the Government of Brazil have taken actions that interfere with the economy of the United States, infringe the free expression rights of United States persons, violate human rights, and undermine the interest the United States has in protecting its citizens and companies. Members of the Government of Brazil are also politically persecuting a former President of Brazil, which is contributing to the deliberate breakdown in the rule of law in Brazil, to politically motivated intimidation in that country, and to human rights abuses.

Recently, members of the Government of Brazil have taken unprecedented actions that harm and are a threat to the economy of the United States, conflict with and threaten the policy of the United States to promote free speech and free and fair elections at home and abroad, and violate fundamental human rights. Indeed, certain Brazilian officials have issued orders to compel United States online platforms to censor the accounts or content of United States persons, where such accounts or content are protected by the First Amendment to the United States Constitution within the United States; block the ability of United States persons to raise money on their platforms; change their content moderation policies, enforcement practices, or algorithms in ways that may result in the censorship of the content and accounts of United States persons; and provide the user data of accounts belonging to United States persons, facilitating the targeting of political critics in the United States.

For example, Brazilian Supreme Court Justice Alexandre de Moraes has abused his judicial authority to target political opponents, shield corrupt allies, and suppress dissent, often in coordination with other Brazilian officials. Justice de Moraes has authorized politically motivated police raids, arrests, and bank account freezes. He has also authorized the confiscation of passports, jailed individuals without trial for social media posts, opened unprecedented criminal investigations, including into United States citizens for their constitutionally protected speech in the United States, and issued secret orders to United States social media companies to censor thousands of posts and de-platform dozens of political critics, including United States persons, for lawful speech on United States soil. When United States and United States-headquartered companies have refused to comply with his unlawful censorship demands, Justice de Moraes has imposed substantial fines on United States and United States-headquartered companies, ordered the suspension of United States and United States-headquartered companies in Brazil, and threatened United States and United States-headquartered company executives with criminal prosecution. In fact, Justice de Moraes is currently overseeing the Government of Brazil's criminal prosecution of a United States resident for speech he made on United States soil.

These judicial actions, taken under the pretext of combatting “disinformation,” “fake news,” or “anti-democratic” or “hateful” content, endanger the economy of the United States by tyrannically and arbitrarily coercing United States companies to censor political speech, turn over sensitive United States user data, or change their content moderation policies on pain of extraordinary fines, criminal prosecution, asset freezes, or complete exclusion from the Brazilian market. These actions also chill and limit expression in the United States, violate human rights, and undermine the interest that the United States has in protecting its citizens and companies at home and abroad.

Brazilian officials are also persecuting former President of Brazil Jair Bolsonaro. The Government of Brazil has unjustly charged Bolsonaro with multiple crimes related to Bolsonaro's 2022 runoff election, and the Supreme Court of Brazil has misguidedly ruled that Bolsonaro must stand trial for these unjustified criminal charges. Political persecution, through drummed up prosecutions, threatens the orderly development of Brazil's political, administrative, and economic institutions, including undermining the ability of Brazil to hold a free and fair election of the presidency in 2026. The Government of Brazil's treatment of former President Bolsonaro also contributes to the deliberate breakdown in the rule of law in Brazil, to politically motivated intimidation in that country, and to human rights abuses.

I find that the unprecedented actions taken by the Government of Brazil have violated the free expression rights of United States persons, interfered with the economy of the United States by coercing United States and United States-headquartered companies to censor United States persons for speech protected by the First Amendment to the United States Constitution on pain of extraordinary fines, criminal prosecution, asset freezes, or complete exclusion from the Brazilian market, subverted the interest of the United States in protecting its citizens and companies, undermined the rule of law in Brazil, and jeopardized the orderly development of Brazil's political, administrative, and economic institutions. The policies, practices, and actions of the Government of Brazil are repugnant to the moral and political values of democratic and free societies and conflict with the policy of the United States to promote democratic governments throughout the world, the principle of free expression and free and fair elections, the rule of law, and respect for human rights.

NOW, THEREFORE, I, DONALD J. TRUMP, President of the United States of America, find that the scope and gravity of the recent policies, practices, and actions of the Government of Brazil constitute an unusual and extraordinary threat, which has its source in whole or substantial part outside the United States, to the national security, foreign policy, and economy of the United States and hereby declare a national emergency with respect to that threat.

To deal with the national emergency declared in this order, I determine that it is necessary and appropriate to impose an additional ad valorem duty rate of 40 percent on certain products of Brazil, as detailed below. In my judgment, this action is necessary and appropriate to deal with the national emergency declared in this order. I am taking the action in this order only for the purpose of addressing the national emergency declared in this order and not for any other purpose.

Sec. 2. Tariff Modifications. (a) Articles of Brazil imported into the customs territory of the United States shall be, consistent with law, subject to an additional ad valorem rate of duty of 40 percent. This rate of duty shall be effective with respect to goods entered for consumption, or withdrawn from warehouse for consumption, on or after 12:01 a.m. eastern daylight time 7 days after the date of this order, except those goods encompassed by 50 U.S.C. 1702(b) or set forth in Annex I to this order, and except for goods that (1) were loaded onto a vessel at the port of loading and in transit on the final mode of transit prior to entry into the United States, before 12:01 a.m. eastern daylight time 7 days after the date of this order; and (2) are entered for consumption, or withdrawn from warehouse for consumption before 12:01 a.m. eastern daylight time on October 5, 2025. The Harmonized Tariff Schedule of the United States shall be modified as provided in Annex II to this order.

(b) U.S. Customs and Border Protection may take any necessary or appropriate measure to administer the duty imposed by this order.

Sec. 3. Scope of Duties and Stacking. (a) The ad valorem duty imposed in this order is in addition to any other duties, fees, taxes, exactions, and charges applicable to such imports, unless subject to existing or future actions under section 232 of the Trade Expansion Act of 1962, in which case the ad valorem duty imposed in this order shall not apply.

(b) The ad valorem duty imposed in this order shall not apply to articles that are excepted by 50 U.S.C. 1702(b) or set forth in Annex I to this order, including certain silicon metal, pig iron, civil aircraft and parts and components thereof, metallurgical grade alumina, tin ore, wood pulp, precious metals, energy and energy products, and fertilizers.

(c) The ad valorem duty imposed in Executive Order 14257 of April 2, 2025 (Regulating Imports With a Reciprocal Tariff To Rectify Trade Practices That Contribute to Large and Persistent Annual United States Goods Trade Deficits), as amended, shall apply in addition to the ad valorem duty imposed in this order, when applicable pursuant to the terms of Executive Order 14257.

(d) Subject articles, except those eligible for admission under “domestic status” as defined in 19 CFR 146.43, which are subject to the duty specified in section 2 of this order and are admitted into a foreign trade zone on or after 12:01 a.m. eastern daylight time 7 days after the date of this order, must be admitted as “privileged foreign status” as defined in 19 CFR 146.41.

Sec. 4. Modification Authority. (a) To ensure that the emergency declared in this order is dealt with, I may modify this order, including in light of additional information, recommendations from senior officials, or changed circumstances.

(b) Should the Government of Brazil retaliate against the United States in response to this action, I will modify this order to ensure the efficacy of the actions herein ordered. For example, if the Government of Brazil retaliates by raising tariff rates on United States exports, I will increase the ad valorem duty rate set forth in this order by a corresponding amount.

(c) Should the Government of Brazil take significant steps to address the national emergency declared in this order and align sufficiently with the United States on national security, economic, and foreign policy matters described in this order, I may further modify this order.

Sec. 5. Monitoring and Recommendations. (a) The Secretary of State shall monitor, and regularly consult with any senior official the Secretary of State deems appropriate on, the situation involving the Government of Brazil.

(b) The Secretary of State, in consultation with the Secretary of the Treasury, the Secretary of Commerce, the Secretary of Homeland Security, the United States Trade Representative, the Assistant to the President for National Security Affairs, the Assistant to the President for Economic Policy, and the Assistant to the President and Senior Counselor for Trade and Manufacturing shall recommend to me additional action, if necessary, if this action is not effective in resolving the emergency declared in this order or should the Government of Brazil retaliate against the United States in response to the actions taken in this order or any subsequent order issued to address this emergency.

Sec. 6. Delegation. The Secretary of State, in consultation with the Secretary of the Treasury, the Secretary of Commerce, the Secretary of Homeland Security, the United States Trade Representative, the Assistant to the President for National Security Affairs, the Assistant to the President for Economic Policy, the Assistant to the President and Senior Counselor for Trade and Manufacturing, and the Chair of the United States International Trade Commission, is hereby authorized to employ all powers granted to the President by IEEPA as may be necessary to carry out the purposes of this order. The Secretary of State may, consistent with law, redelegate the authority set forth in this order within the Department of State. Each executive department and agency shall take all appropriate measures within its authority to carry out this order.

Sec. 7. Reporting Directives. The Secretary of State, in consultation with the Secretary of the Treasury, the Secretary of Commerce, the Secretary of Homeland Security, the United States Trade Representative, the Assistant to the President for National Security Affairs, the Assistant to the President for Economic Policy, and the Assistant to the President and Senior Counselor for Trade and Manufacturing, is hereby authorized and directed to submit recurring and final reports to the Congress on the national emergency declared in, and authorities exercised by, this order, consistent with section 401 of the NEA (50 U.S.C. 1641) and section 204(c) of IEEPA (50 U.S.C. 1703(c)).

Sec. 8. Severability. If any provision of this order, or the application of any provision to any individual or circumstance, is held to be invalid, the remainder of this order and the application of its other provisions to any other individuals or circumstances shall not be affected thereby.

Sec. 9. General Provisions. (a) Nothing in this order shall be construed to impair or otherwise affect:

(i) the authority granted by law to an executive department, agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Department of State.

THE WHITE HOUSE,

July 30, 2025.

Billing code 4710-05-P

[FR Doc. 2025-14896

Filed 8-4-25; 11:15 am]

Billing code 7020-02-C